DEPARTMENT OF THE TREASURY

Internal Revenue Service

Privacy Act of 1974, as Amended

AGENCY: Internal Revenue Service, Treasury.

ACTION: Notice of Proposed Alterations to Privacy Act Systems of Records.

SUMMARY: In accordance with the requirements of the Privacy Act of 1974, as amended, 5 U.S.C. 552a, the Department of the Treasury, Internal Revenue Service, gives notice of proposed alterations to systems of records entitled:

46.002, Criminal Investigation Management Information System (CIMIS) and case files;

46.003, Confidential Informants;

46.005, Electronic Surveillance Files;

46.009, Centralized Evaluation and Processing of Information Items (CEPIIs), Evaluation and Processing of Information (EOI);

46.015, Relocated Witnesses; and

46.050, Automated Information Analysis System.

DATES: Comments must be received no later than April 7, 2014. These altered systems of records will be effective April 16, 2014 unless the IRS receives comments that would result in a contrary determination.

ADDRESSES: Comments should be sent to Anne Jensen, Tax Law Specialist, Office of Privacy, Governmental Liaison, and Disclosure, 1111 Constitution Avenue NW., Room 1621, Washington, DC 20224. Comments will be available for inspection and copying in the Freedom of Information Reading Room (Room 1621), at the above address. The telephone number for the Reading Room is (202) 317-4997 (not a toll-free number).

FOR FURTHER INFORMATION CONTACT: Anne Jensen, Tax Law Specialist, Office of Privacy, Governmental Liaison, and Disclosure, 1111 Constitution Avenue NW., Room 1621, Washington, DC 20224. Ms. Jensen may be reached via telephone at (202) 317-4997 (not a toll-free number).

SUPPLEMENTARY INFORMATION: The IRS proposes to revise Criminal Investigation's six existing systems of records. In conjunction with these revisions, the IRS will delete one of the existing systems of records, leaving five remaining systems of records. The purpose of these revisions and deletions is to better reflect the reorganization and realignment of Criminal Investigation, a business unit under the Deputy Commissioner (Services and Enforcement) following enactment of the IRS Restructuring and Reform Act of 1998, to simplify the notices, to more closely reflect the nature of the work currently performed by the various components of Criminal Investigation, both in headquarters and in the field, and to enumerate certain additional routine uses that may be made of the individually identifiable information maintained in these systems of records. This revision should enable individuals to more readily identify the systems of records in which Criminal Investigation may maintain records about them. The revised routine uses more fully describe the circumstances under which the agency may use these records. A final exemption rule, which does not alter the exemptions claimed for the individually identifiable information maintained in these consolidated systems of records, is being published separately under the rules section of the Federal Register.

The IRS currently maintains six systems of records related to the functions of Criminal Investigation. Notices describing these systems of records were most recently published at 77 FR 47984-47987 (August 10, 2012). The IRS proposes to delete the system of records described below:

Treasury/IRS 46.009, Centralized Evaluation and Processing of Information Items (CEPIIs), Evaluation and Processing of Information (EOI)

The IRS proposes to revise the five systems of records listed below:

Treasury/IRS 46.002, Criminal and Investigation Management Information System (CIMIS) and case files

Treasury/IRS 46.003, Confidential Informants

Treasury/IRS 46.005, Electronic Surveillance Files

Treasury/IRS 46.015, Relocated Witnesses

Treasury/IRS 46.050, Automated Information Analysis System.

A final rule exempting the proposed altered systems of records from certain provisions of the Privacy Act will be published separately in the Federal Register.

As required by 5 U.S.C. 552a(r), a report of altered systems of records has been provided to the Committee on Oversight and Government Reform of the House of Representatives, the Committee on Homeland Security and Governmental Affairs of the Senate, and the Office of Management and Budget.

The five proposed revised systems of records, described above, are published in their entirety below.

Dated: February 20, 2014.
Helen Goff Foster,
Deputy Assistant Secretary for Privacy, Transparency, and Records.

Treasury/IRS 46.002

System Name:

Management Information System and Case Files, Criminal Investigation—Treasury/IRS.

System Location:

Headquarters, Field, Campus, and Computing Center offices. (See the Appendix published in the Federal Register on August 10, 2012, for addresses.)

Categories of Individuals Covered by the System:

Subjects and potential subjects of Criminal Investigation (CI) investigations and other individuals of interest to CI, such as witnesses and associates of subjects or potential subjects of CI investigations; individuals about whom CI has received information alleging their commission of, or involvement with, a violation of Federal laws within IRS jurisdiction, including individuals who may be victims of identity theft or other fraudulent refund or tax schemes; individuals identified as potentially posing a threat to the Commissioner, other Agency officials, or visiting dignitaries, or as having inappropriately contacted the Commissioner or other Agency officials; IRS employees assigned to work matters handled by CI.

Categories of Records in the System:

Records pertaining to possible violations of laws under the enforcement jurisdiction of the IRS, received by the IRS from other sources or developed during investigative activities, that identify or may identify criminal or civil noncompliance with Federal tax laws and other Federal laws delegated to CI for investigation or enforcement; information arising from investigative activities conducted by CI in conjunction with other Federal, state, local, or foreign law enforcement, regulatory, or intelligence agencies; personal, identification, criminal history, and other information, including information sources, pertaining to individuals identified as person(s) of interest by Special Agents assigned to the Dignitary Protection Detail; personnel and workload management information. Records include biographical, travel, communication, financial, and surveillance information.

Authority for Maintenance of the System:

5 U.S.C. 301; 26 U.S.C. 7801 and 7803; 31 U.S.C. 5311 et seq.; Department of the Treasury Delegation Orders and Directives authorizing CI to conduct investigations into specified non-tax crimes.

Purpose(s):

To maintain, analyze, and process sensitive investigative information that identifies or may identify criminal noncompliance with Federal tax laws and other Federal laws delegated to CI for investigation or enforcement, and that identifies or may identify the individuals connected to such activity. To establish linkages between identity theft and refund or other tax fraud schemes, and the individuals involved in such schemes, that may be used to further investigate such activity and to perfect filters that identify fraudulent returns upon filing and to facilitate tax account adjustments for taxpayers victimized by these schemes.

Routine Uses of Records Maintained in the System, Including Categories of Users and the Purposes of Such Uses:

Disclosure of returns and return information may be made only as provided by 26 U.S.C. 6103. Material covered by rule 6(e) of the Federal Rules of Criminal Procedure may be disclosed only as permitted by that rule. Disclosure of information covered by 31 U.S.C. 5311, et seq. or 12 U.S.C. 1951, et seq. (Bank Secrecy Act) may be made only as provided by Title 31, U.S.C., and Treasury guidelines. Other records may be used as described below if the IRS deems that the purpose of the disclosure is compatible with the purpose for which the IRS collected the records and no privilege is asserted.

(1) Disclose information to the Department of Justice (DOJ) when seeking legal advice, or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by the proceeding, and the IRS determines that the records are relevant and useful.

(2) Disclose information in a proceeding (including discovery) before a court, administrative tribunal, or other adjudicative body when: (a) The IRS or any component thereof; (b) any IRS employee in his or her official capacity; (c) any IRS employee in his or her personal capacity if the IRS or the DOJ has agreed to provide representation for the employee; or (d) the United States is a party to, has an interest in, or is likely to be affected by, the proceeding, and the IRS or the DOJ determines that the information is relevant and necessary. Information may be disclosed to the adjudicative body to resolve issues of relevancy, necessity, or privilege pertaining to the information.

(3) Disclose information to Federal, State, local, tribal, and foreign law enforcement and regulatory agencies regarding violations or possible violations of Bank Secrecy Act, money laundering, tax, and other financial laws when relevant and necessary to obtain information for an investigation or enforcement activity.

(4) Disclose information to a Federal, State, local, or tribal agency, or other public authority responsible for implementing, enforcing, investigating, or prosecuting the violation of a statute, rule, regulation, order, or license, when a record on its face, or in conjunction with other records, indicates a potential violation of law or regulation and the information disclosed is relevant to any regulatory, enforcement, investigative, or prosecutorial responsibility of the receiving authority.

(5) Disclose information to a contractor hired by the IRS, including an expert witness or a consultant, to the extent necessary for the performance of a contract.

(6) Disclose information to third parties during the course of an investigation to the extent necessary to obtain information pertinent to the investigation.

(7) Disclose information to officials of labor organizations recognized under 5 U.S.C. Chapter 71 when relevant and necessary to their duties of exclusive representation.

(8) Disclose information to foreign governments in accordance with international agreements.

(9) Disclose information to the news media as described in IRS Policy Statement 11-94 (formerly P-1-183), News Coverage to Advance Deterrent Value of Enforcement Activities Encouraged, IRM 1.2.19.1.9.

(10) Disclose information to a defendant in a criminal prosecution, the DOJ, or a court of competent jurisdiction when required in criminal discovery or by the Due Process Clause of the Constitution.

(11) Disclose information, to the extent deemed necessary and appropriate for use in announcements to the general public that the IRS or the Department of the Treasury seeks to locate, detain, or arrest specified individuals in connection with criminal activity under CI's investigative jurisdiction.

(12) Disclose information to appropriate agencies, entities, and persons when (a) the IRS suspects or has confirmed that the security or confidentiality of information in the system of records has been compromised; (b) the IRS has determined that as a result of the suspected or confirmed compromise there is a risk of harm to economic or property interests, identity theft or fraud, or harm to the security or integrity of this system or other systems or programs (whether maintained by the IRS or another agency or entity) that rely upon the compromised information; and (c) the disclosure made to such agencies, entities, and persons is reasonably necessary to assist in connection with IRS efforts to respond to the suspected or confirmed compromise and to prevent, minimize, or remedy such harm.

Policies and Practices for Storing, Retrieving, Accessing, Retaining, and Disposing of Records in the System:

Storage:

Paper records and electronic media.

Retrievability:

By name, address, taxpayer identification number, or telephone, passport, financial account, driver or professional license, or criminal record numbers, or other identifying detail contained in the investigative records, including financial information, geographical location/travel information, surveillance records, communication and contact information, or biographical data of the subject or an associate of the subject, a witness, or a victim of alleged identity theft or other fraudulent refund or tax scheme; identity of the individual(s) who provided information; name or employee number of assigned employee(s).

Safeguards:

Access controls are not less than those published in IRM 10.2, Physical Security Program, and IRM 10.8, Information Technology (IT) Security.

Retention and Disposal:

Records pertaining to persons of interest identified by Special Agents assigned to the Dignitary Protection Detail are maintained until such time that the individual or group no longer poses a threat. Other records are retained and disposed of in accordance with the record control schedules applicable to the records of Criminal Investigation, IRM 1.15.30.

System Manager(s) and Address:

Chief, Criminal Investigation. (See the Appendix published in the Federal Register on August 10, 2012, for address.)

Notification Procedure:

Individuals seeking notification of and access to any record contained in this system of records, or seeking to contest its content, may inquire in writing in accordance with instructions appearing at 31 CFR part 1, subpart C, Appendix B. Written inquiries should be addressed as stated in the Appendix published in the Federal Register on August 10, 2012. This system of records contains records that are exempt from the notification, access, and contest requirements pursuant to 5 U.S.C. 552a(j)(2).

Record Access Procedures:

See “Notification Procedure” above.

Contesting Record Procedures:

See “Notification Procedure” above. 26 U.S.C. 7852(e) prohibits Privacy Act amendment of tax records.

Record Source Categories:

This system of records contains investigatory material compiled for law enforcement purposes whose sources need not be reported.

Exemptions Claimed for the System:

Records in this system are exempt from sections (c)(3)-(4), (d)(1)-(4), (e)(1)-(3), (e)(4)(G)-(I), (e)(5), (e)(8), (f), and (g) of the Privacy Act, pursuant to 5 U.S.C. 552a(j)(2). (See 31 CFR 1.36.)

Treasury/IRS 46.003

System Name:

Confidential Informant Records, Criminal Investigation—Treasury/IRS.

System Location:

Headquarters and Field offices. (See the Appendix published in the Federal Register on August 10, 2012, for addresses.)

Categories of Individuals Covered by the System:

Current and former confidential informants; subjects of confidential informants' reports.

Categories of Records in the System:

Information about current and former confidential informants, including their personal and financial information and investigative activities with which each confidential informant is connected.

Authority for Maintenance of the System:

5 U.S.C. 301; 26 U.S.C. 7801 and 7803; 31 U.S.C. 5311 et seq.; Department of the Treasury delegation orders and directives authorizing CI to conduct investigations into specified non-tax crimes.

Purpose(s):

To maintain a file of the identities and background material of current and former confidential informants.

Routine Uses of Records Maintained in the System, Including Categories of Users and the Purposes of Such Uses:

Disclosure of returns and return information may be made only as provided in 26 U.S.C. 6103. Material covered by rule 6(e) of the Federal Rules of Criminal Procedure may be disclosed only as permitted by that rule. Disclosure of information covered by 31 U.S.C. 5311, et seq. or 12 U.S.C. 1951, et seq. (Bank Secrecy Act) may be made only as provided by Title 31, U.S.C., and Treasury guidelines. Other records may be used as described below if the IRS deems that the purpose of the disclosure is compatible with the purpose for which the IRS collected the records and no privilege is asserted.

(1) Disclose information to the Department of Justice (DOJ) when seeking legal advice, or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by the proceeding, and the IRS determines that the records are relevant and useful.

(2) Disclose information in a proceeding (including discovery) before a court, administrative tribunal, or other adjudicative body when: (a) The IRS or any component thereof; (b) any IRS employee in his or her official capacity; (c) any IRS employee in his or her personal capacity if the IRS or the DOJ has agreed to provide representation for the employee; or (d) the United States is a party to, has an interest in, or is likely to be affected by, the proceeding, and the IRS or the DOJ determines that the information is relevant and necessary. Information may be disclosed to the adjudicative body to resolve issues of relevancy, necessity, or privilege pertaining to the information.

(3) Disclose information to Federal, State, local, tribal, and foreign law enforcement and regulatory agencies regarding violations or possible violations of Bank Secrecy Act, money laundering, tax, and other financial laws when relevant and necessary to obtain information for an investigation or enforcement activity.

(4) Disclose information to a Federal, State, local, or tribal agency, or other public authority responsible for implementing, enforcing, investigating, or prosecuting the violation of a statute, rule, regulation, order, or license, when a record on its face, or in conjunction with other records, indicates a potential violation of law or regulation and the information disclosed is relevant to any regulatory, enforcement, investigative, or prosecutorial responsibility of the receiving authority.

(5) Disclose information to a contractor hired by the IRS, including an expert witness or a consultant, to the extent necessary for the performance of a contract.

(6) Disclose information to third parties during the course of an investigation to the extent necessary to obtain information pertinent to the investigation.

(7) Disclose information to officials of labor organizations recognized under 5 U.S.C. Chapter 71 when relevant and necessary to their duties of exclusive representation.

(8) Disclose information to foreign governments in accordance with international agreements.

(9) Disclose information to the news media as described in the IRS Policy Statement 11-94 (formerly P-1-183), News Coverage to Advance Deterrent Value of Enforcement Activities Encouraged, IRM 1.2.19.1.9.

(10) Disclose information to a defendant in a criminal prosecution, the DOJ, or a court of competent jurisdiction when required in criminal discovery or by the Due Process Clause of the Constitution.

(11) Disclose information to appropriate agencies, entities, and persons when (a) the IRS suspects or has confirmed that the security or confidentiality of information in the system of records has been compromised; (b) the IRS has determined that as a result of the suspected or confirmed compromise there is a risk of harm to economic or property interests, identity theft or fraud, or harm to the security or integrity of this system or other systems or programs (whether maintained by the IRS or another agency or entity) that rely upon the compromised information; and (c) the disclosure made to such agencies, entities, and persons is reasonably necessary to assist in connection with IRS efforts to respond to the suspected or confirmed compromise and to prevent, minimize, or remedy such harm.

Policies and Practices for Storing, Retrieving, Accessing, Retaining, and Disposing of Records in the System:

Paper records and electronic media

Retrievability:

By confidential informant's name, address, or taxpayer identification number; investigation number; or other identifying detail (such as telephone, driver's license, passport, or financial account numbers); name of the subject or other persons identified in the confidential informant's report or memoranda; name or employee number of assigned employee(s).

Safeguards:

Access controls are not less than those published in IRM 10.2, Physical Security Program, and IRM 10.8, Information Technology (IT) Security.

Retention and Disposal:

Records are retained and disposed of in accordance with the record control schedules applicable to the records of Criminal Investigation, IRM 1.15.30.

System Manager(s) and Address:

Chief, Criminal Investigation. (See the Appendix published in the Federal Register on August 10, 2012, for address.)

Notification Procedure:

Individuals seeking notification of and access to any records contained in this system of records, or seeking to contest its content, may inquire in writing in accordance with instructions appearing at 31 CFR part 1, subpart C, Appendix B. Written inquiries should be addressed as stated in the Appendix published in the Federal Register on August 10, 2012. This system of records contains records that are exempt from the notification, access, and contest requirements pursuant to 5 U.S.C. 552a(j)(2).

Record Access Procedures:

See “Notification Procedure” above.

Contesting Record Procedures:

See “Notification Procedure” above. 26 U.S.C. 7852(e) prohibits Privacy Act amendment of tax records.

Record Source Categories:

This system of records contains investigatory material compiled for law enforcement purposes whose sources need not be reported.

Exemptions Claimed for the System:

Records in this system are exempt from sections (c)(3)-(4), (d)(1)-(4), (e)(1)-(3), (e)(4)(G)-(I), (e)(5), (e)(8), (f), and (g) of the Privacy Act, pursuant to 5 U.S.C. 552a(j)(2). (See 31 CFR 1.36.)

TREASURY/IRS 46.005

System Name:

Electronic Surveillance and Monitoring Records, Criminal Investigation—Treasury/IRS.

System Location:

Headquarters office. (See the Appendix published in the Federal Register on August 10, 2012, for address.)

Categories of Individuals Covered by the System:

Subjects of electronic surveillance, including associates identified by the surveillance or otherwise.

Categories of Records in the System:

Information received or developed during CI's investigative activities relating to authorized electronic surveillance activities; investigative reports and files regarding electronic surveillance conducted by CI independently or in conjunction with other Federal, state, local, or foreign law enforcement, or intelligence agencies.

Authority for Maintenance of the System:

5 U.S.C. 301; 26 U.S.C. 7801 and 7803; 31 U.S.C. 5311 et seq.; Department of Treasury Delegation Orders and Directives authorizing CI to conduct investigations into specified non-tax crimes.

Purpose:

To maintain, analyze, and process sensitive investigative data obtained through authorized electronic surveillance that identifies or may identify criminal noncompliance with Federal tax law or other laws delegated to CI for enforcement.

Routine Uses of Records Maintained in the System, Including Categories of Users and the Purposes of Such Uses:

Disclosure of returns and return information may be made only as provided in 26 U.S.C. 6103. Material covered by rule 6(e) of the Federal Rules of Criminal Procedure may be disclosed only as permitted by that rule. Disclosure of information covered by 31 U.S.C. 5311, et seq. or 12 U.S.C. 1951, et seq. (Bank Secrecy Act) may be made only as provided by Title 31, U.S.C., and Treasury guidelines. Other records may be used as described below if the IRS deems that the purpose of the disclosure is compatible with the purpose for which the IRS collected the records and no privilege is asserted.

(1) Disclose information to the Department of Justice (DOJ) when seeking legal advice, or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by the proceeding, and the IRS determines that the records are relevant and useful.

(2) Disclose information in a proceeding (including discovery) before a court, administrative tribunal, or other adjudicative body when: (a) The IRS or any component thereof; (b) any IRS employee in his or her official capacity; (c) any IRS employee in his or her personal capacity if the IRS or the DOJ has agreed to provide representation for the employee; or (d) the United States is a party to, has an interest in, or is likely to be affected by, the proceeding, and the IRS or the DOJ determines that the information is relevant and necessary. Information may be disclosed to the adjudicative body to resolve issues of relevancy, necessity, or privilege pertaining to the information.

(3) Disclose information to Federal, State, local, tribal, and foreign law enforcement and regulatory agencies regarding violations or possible violations of Bank Secrecy Act, money laundering, tax, and other financial laws when relevant and necessary to obtain information for an investigation or enforcement activity.

(4) Disclose information to a Federal, State, local, or tribal agency, or other public authority responsible for implementing, enforcing, investigating, or prosecuting the violation of a statute, rule, regulation, order, or license, when a record on its face, or in conjunction with other records, indicates a potential violation of law or regulation and the information disclosed is relevant to any regulatory, enforcement, investigative, or prosecutorial responsibility of the receiving authority.

(5) Disclose information to a contractor hired by the IRS, including an expert witness or a consultant, to the extent necessary for the performance of a contract.

(6) Disclose information to third parties during the course of an investigation to the extent necessary to obtain information pertinent to the investigation.

(7) Disclose information to officials of labor organizations recognized under 5 U.S.C. Chapter 71 when relevant and necessary to their duties of exclusive representation.

(8) Disclose information to foreign governments in accordance with international agreements.

(9) Disclose information to the news media as described in the IRS Policy Statement 11-94 (formerly P-1-183), News Coverage to Advance Deterrent Value of Enforcement Activities Encouraged, IRM 1.2.19.1.9.

(10) Disclose information to a defendant in a criminal prosecution, the DOJ, or a court of competent jurisdiction when required in criminal discovery or by the Due Process Clause of the Constitution.

(11) Disclose information to appropriate agencies, entities, and persons when (a) the IRS suspects or has confirmed that the security or confidentiality of information in the system of records has been compromised; (b) the IRS has determined that as a result of the suspected or confirmed compromise there is a risk of harm to economic or property interests, identity theft or fraud, or harm to the security or integrity of this system or other systems or programs (whether maintained by the IRS or another agency or entity) that rely upon the compromised information; and (c) the disclosure made to such agencies, entities, and persons is reasonably necessary to assist in connection with IRS efforts to respond to the suspected or confirmed compromise and to prevent, minimize, or remedy such harm.

Policies and Practices for Storing, Retrieving, Accessing, Retaining, and Disposing of Records in the System:

Paper records and electronic media.

Retrievability:

By name, address, taxpayer identification number, or other identifying detail (telephone, driver's license, passport, criminal record, or financial account numbers) of the subject or an associate of the subject; investigation number; address, telephone number, or other locational criteria of the person or location under surveillance; name or employee number of assigned employee(s).

Safeguards:

Access controls are not less than those published in IRM 10.2, Physical Security Program, and IRM 10.8, Information Technology (IT) Security.

Retention and Disposal:

Records are retained and disposed of in accordance with the record control schedules applicable to the records of Criminal Investigation, IRM 1.15.30.

System Manager(s) and Address:

Chief, Criminal Investigation. (See the Appendix published in the Federal Register on August 10, 2012, for address.)

Notification Procedure:

Individuals seeking notification and access to any record contained in this system of records, or seeking to contest its content, may inquire in writing in accordance with instructions appearing at 31 CFR part 1, subpart C, Appendix B. Written inquiries should be addressed as stated in the Appendix published in the Federal Register on August 10, 2012. This system of records contains records that are exempt from the notification, access, and contest requirements pursuant to 5 U.S.C. 552a(j)(2).

Record Access Procedures:

See “Notification Procedure” above.

Contesting Record Procedures:

See “Notification Procedure” above. 26 U.S.C. 7852(e) prohibits Privacy Act amendment of tax records.

Record Source Categories:

This system of records contains investigatory material compiled for law enforcement purposes whose sources need not be reported.

Exemptions Claimed for the System:

Records in this system are exempt from sections (c)(3)-(4), (d)(1)-(4), (e)(1)-(3), (e)(4)(G)-(I), (e)(5), (e)(8), (f), and (g) of the Privacy Act, pursuant to 5 U.S.C. 552a(j)(2). (See 31 CFR 1.36.)

TREASURY/IRS 46.015

System Name:

Relocated Witness Records, Criminal Investigation—Treasury/IRS.

System Location:

Headquarters office. (See the Appendix published in the Federal Register on August 10, 2012, for address.)

Categories of Individuals Covered by the System:

Individuals who are recommended by IRS for placement in the Federal witness security program.

Categories of Records in the System:

Personal information about individuals recommended by IRS for placement in the Federal witness security program, including reasons for recommendation and status of the recommendation (pending, accepted, denied). Records include information about individuals denied acceptance (including reasons for denial) and individuals accepted and the relocation and other services provided or offered to these individuals.

Authority for Maintenance of the System:

5 U.S.C. 301; 26 U.S.C. 7801 and 7803; 31 U.S.C. 5311 et seq.; Department of the Treasury Delegation Orders and Directives authorizing CI to conduct investigations into specified non-tax crimes.

Purpose:

To maintain information on individuals who are recommended by IRS for placement in the Federal witness security program. Records are used to ensure that appropriate services are provided to each individual.

Routine Uses of Records Maintained in the System, Including Categories of Users and the Purposes of Such Uses:

Disclosure of returns and return information may be made only as provided in 26 U.S.C. 6103. Material covered by rule 6(e) of the Federal Rules of Criminal Procedure may be disclosed only as permitted by that rule. Disclosure of information covered by 31 U.S.C. 5311, et seq. or 12 U.S.C. 1951, et seq. (Bank Secrecy Act) may be made only as provided by Title 31, U.S.C., and Treasury guidelines. Other records may be used as described below if the IRS deems that the purpose of the disclosure is compatible with the purpose for which the IRS collected the records and no privilege is asserted.

(1) Disclose information to the Department of Justice (DOJ) when seeking legal advice, or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by the proceeding, and the IRS determines that the records are relevant and useful.

(2) Disclose information in a proceeding (including discovery) before a court, administrative tribunal, or other adjudicative body when: (a) the IRS or any component thereof; (b) any IRS employee in his or her official capacity; (c) any IRS employee in his or her personal capacity if the IRS or the DOJ has agreed to provide representation for the employee; or (d) the United States is a party to, has an interest in, or is likely to be affected by, the proceeding, and the IRS or the DOJ determines that the information is relevant and necessary. Information may be disclosed to the adjudicative body to resolve issues of relevancy, necessity, or privilege pertaining to the information.

(3) Disclose information to Federal, State, local, tribal, and foreign law enforcement and regulatory agencies regarding violations or possible violations of Bank Secrecy Act, money laundering, tax, and other financial laws when relevant and necessary to obtain information for an investigation or enforcement activity.

(4) Disclose information to a Federal, State, local, or tribal agency, or other public authority responsible for implementing, enforcing, investigating, or prosecuting the violation of a statute, rule, regulation, order, or license, when a record on its face, or in conjunction with other records, indicates a potential violation of law or regulation and the information disclosed is relevant to any regulatory, enforcement, investigative, or prosecutorial responsibility of the receiving authority.

(5) Disclose information to a contractor hired by the IRS, including an expert witness or a consultant, to the extent necessary for the performance of a contract.

(6) Disclose information to third parties during the course of an investigation to the extent necessary to obtain information pertinent to the investigation.

(7) Disclose information to officials of labor organizations recognized under 5 U.S.C. Chapter 71 when relevant and necessary to their duties of exclusive representation.

(8) Disclose information to foreign governments in accordance with international agreements.

(9) Disclose information to the news media as described in the IRS Policy Statement 11-94 (formerly P-1-183), News Coverage To Advance Deterrent Value of Enforcement Activities Encouraged, IRM 1.2.19.1.9.

(10) Disclose information to a defendant in a criminal prosecution, the DOJ, or a court of competent jurisdiction when required in criminal discovery or by the Due Process Clause of the Constitution.

(11) Disclose information to appropriate agencies, entities, and persons when (a) the IRS suspects or has confirmed that the security or confidentiality of information in the system of records has been compromised; (b) the IRS has determined that as a result of the suspected or confirmed compromise there is a risk of harm to economic or property interests, identity theft or fraud, or harm to the security or integrity of this system or other systems or programs (whether maintained by the IRS or another agency or entity) that rely upon the compromised information; and (c) the disclosure made to such agencies, entities, and persons is reasonably necessary to assist in connection with IRS efforts to respond to the suspected or confirmed compromise and prevent, minimize, or remedy such harm.

Policies and Practices for Storing, Retrieving, Accessing, and Disposing of Records in the System:

Storage:

Paper records and electronic media.

Retrievability:

By the name, address, taxpayer identification number, or other identifying detail (such as telephone, driver's license, passport, or financial account numbers); investigation number pertaining to the individual whom CI recommends enter the Federal witness protection program; the identity of the person against whom that individual testified.

Safeguards:

Access controls are not less than those published in IMR 10.2, Physical Security Program, and IRM 10.8, Information Technology (IT) Security.

Retention and Disposal:

Records are retained and disposed of in accordance with the record control schedules applicable to the records of Criminal Investigation, IRM 1.15.30.

System Manager(s) and Address:

Chief, Criminal Investigation. (See the Appendix published in the Federal Register on August 10, 2012, for address.)

Notification Procedure:

Individuals seeking notification of and access to any record contained in this system of records, or seeking to contest its content, may inquire in writing in accordance with instructions appearing at 31 CFR part 1, subpart C, Appendix B. Written inquiries should be addressed as stated in the Appendix published in the Federal Register on August 10, 2012. This system of records contains records that are exempt from the notification, access, and contest requirements pursuant to 5 U.S.C. 552a(j)(2).

Record Access Procedures:

See “Notification Procedure” above.

Contesting Record Procedures:

See “Notification Procedure” above. 26 U.S.C. 7852(e) prohibits Privacy Act amendment of tax records.

Record Source Categories:

This system of records contains investigatory material compiled for law enforcement purposes whose sources need not be reported.

Exemptions Claimed for the System:

Records in this system are exempt from sections (c)(3)-(4), (d)(1)-(4), (e)(1)-(3), (e)(4)(G)-(I), (e)(5), (e)(8), (f), and (g) of the Privacy Act, pursuant to 5 U.S.C. 552a(j)(2). (See 31 CFR 1.36.)

TREASURY/IRS 46.050

System Name:

Automated Information Analysis and Recordkeeping, Criminal Investigation—Treasury/IRS.

System Location:

Headquarters, Field, Campus, and Computing Center offices. (See the Appendix published in the Federal Register on August 10, 2012, for addresses.)

Categories of Individuals Covered by the System:

Individuals involved in financial transactions that require the reporting of information reflected in the `Categories of Records' below.

Categories of Records in the System:

Financial records pertaining to transactions with reporting requirements under the Internal Revenue Code, the Bank Secrecy Act, or other Federal law, and reports of suspicious activity pertaining to such transactions. Such transactions include international transportation of currency or monetary instruments, cash payments over $10,000 received in a trade or business, financial institution currency transaction reports, registrations of money services businesses, and maintenance of accounts in banks or other financial institutions outside the U.S. Some records in this system are copied from other systems of records, including: Individual Master File (Treasury/IRS 24.030); Business Master File (Treasury/IRS 24.046); Currency Transaction Reports (CTRs) (FinCEN .003); Report of International Transportation of Currency or Monetary Instruments (CMIRs) (FinCEN .003); Suspicious Activity Reports (SARs) (FinCEN .002); Foreign Bank and Financial Accounts (FBARs) (FinCEN .003); Reports of Cash Payments over $10,000 Received in a Trade or Business (FinCEN .003); Registration of Money Services Business; and other forms required by the Bank Secrecy Act (FinCEN .003).

Authority for Maintenance of the System:

5 U.S.C. 301; 26 U.S.C. 7801 and 7803; 31 U.S.C. 5311 et seq.; Department of the Treasury Delegation Orders and Directives authorizing CI to conduct investigations into specified non-tax crimes.

Purpose:

To maintain, analyze, and process records and information that may identify patterns of financial transactions indicative of criminal and/or civil noncompliance with tax, money laundering, Bank Secrecy Act, and other financial laws and regulations delegated to CI for investigation or enforcement, and that identifies or may identify the individuals connected to such activity. To establish linkages between fraudulent transactions or other activities, and the individuals involved in such actions, that may be used to further investigate such activity and to perfect filters that identify information pertaining to such activity.

Routine Uses of Records Maintained in the System, Including Categories of Users and the Purposes of Such Uses:

Disclosure of returns and return information may be made only as provided in 26 U.S.C. 6103. Material covered by rule 6(e) of the Federal Rules of Criminal Procedure may be disclosed only as permitted by that rule. Disclosure of information covered by 31 U.S.C. 5311, et seq. or 12 U.S.C. 1951, et seq. (Bank Secrecy Act) may be made only as provided by Title 31, U.S.C., and Treasury guidelines. Other records may be used as described below if the IRS deems that the purpose of the disclosure is compatible with the purpose for which the IRS collected the records and no privilege is asserted.

(1) Disclose information to the Department of Justice (DOJ) when seeking legal advice, or for use in any proceeding, or in preparation for any proceeding, when: (a) The IRS or any component thereof; (b) any IRS employee in his or her official capacity; (c) any IRS employee in his or her individual capacity if the IRS or the DOJ has agreed to provide representation for the employee; or (d) the United States is a party to, has an interest in, or is likely to be affected by the proceeding, and the IRS determines that the records are relevant and useful.

(2) Disclose information in a proceeding (including discovery) before a court, administrative tribunal, or other adjudicative body when: (a) The IRS or any component thereof; (b) any IRS employee in his or her official capacity; (c) any IRS employee in his or her personal capacity if the IRS or the DOJ has agreed to provide representation for the employee; or (d) the United States is a party to, has an interest in, or is likely to be affected by, the proceeding, and the IRS or the DOJ determines that the information is relevant and necessary. Information may be disclosed to the adjudicative body to resolve issues of relevancy, necessity, or privilege pertaining to the information.

(3) Disclose information to Federal, State, local, tribal, and foreign law enforcement and regulatory agencies regarding violations or possible violations of Bank Secrecy Act, money laundering, tax, and other financial laws when relevant and necessary to obtain information for an investigation or enforcement activity.

(4) Disclose information to a Federal, State, local, or tribal agency, or other public authority responsible for implementing, enforcing, investigating, or prosecuting the violation of a statute, rule, regulation, order, or license, when a record on its face, or in conjunction with other records, indicates a potential violation of law or regulation and the information disclosed is relevant to any regulatory, enforcement, investigative, or prosecutorial responsibility of the receiving authority.

(5) Disclose information to a contractor hired by the IRS, including an expert witness or a consultant, to the extent necessary for the performance of a contract.

(6) Disclose information to third parties during the course of an investigation to the extent necessary to obtain information pertinent to the investigation.

(7) Disclose information to officials of labor organizations recognized under 5 U.S.C. Chapter 71 when relevant and necessary to their duties of exclusive representation.

(8) Disclose information to foreign governments in accordance with international agreements.

(9) Disclose information to the news media as described in the IRS Policy Statement 11-94 (formerly P-1-183), News Coverage to Advance Deterrent Value of Enforcement Activities Encouraged, IRM 1.2.19.1.9.

(10) Disclose information to a defendant in a criminal prosecution, the DOJ, or a court of competent jurisdiction when required in criminal discovery or by the Due Process Clause of the Constitution.

(11) Disclose information to appropriate agencies, entities, and persons when (a) the IRS suspects or has confirmed that the security or confidentiality of information in the system of records has been compromised; (b) the IRS has determined that as a result of the suspected or confirmed compromise there is a risk of harm to economic or property interests, identity theft or fraud, or harm to the security or integrity of this system or other systems or programs (whether maintained by the IRS or another agency or entity) that rely upon the compromised information; and (c) the disclosure made to such agencies, entities, and persons is reasonably necessary to assist in connection with IRS efforts to respond to the suspected or confirmed compromise and to prevent, minimize, or remedy such harm.

Policies and Practices for Storing, Retrieving, Accessing, Retaining, and Disposing of Records in the System:

Storage:

Paper records and electronic media.

Retrievability:

By name, address, taxpayer identification number, or other identifying detail (such as telephone, driver license, passport, criminal record, financial account, or professional license numbers) of the subject or an associate of the subject, a witness, or a victim of alleged identity theft or other fraudulent refund or tax scheme; identity of the individual who provided information; name or employee number of the assigned employee(s).

Safeguards:

Access controls are not less than those published in IRM 10.2, Physical Security Program, and IRM 10.8, Information Technology (IT) Security.

Retention and Disposal:

Records are retained and disposed of in accordance with the record control schedules applicable to the records of Criminal Investigation, IRM 1.15.30.

System Manager and Address:

Chief, Criminal Investigation. (See the Appendix published in the Federal Register on August 10, 2012, for address.)

Notification Procedure:

Individuals seeking notification of and access to any record contained in this system of records, or seeking to contest its content, may inquire in writing in accordance with instructions appearing at 31 CFR part 1, subpart C, Appendix B. Written inquiries should be addressed as stated in the Appendix published in the Federal Register on August 10, 2012. This system of records contains records that are exempt from the notification, access, and contest requirements pursuant to 5 U.S.C. 552a(j)(2) and (k)(2).

Record Access Procedures:

See “Notification Procedure” above.

Contesting Record Procedures:

See “Notification Procedure” above. 26 U.S.C. 7852(e) prohibits Privacy Act amendment of tax records.

Record Source Categories:

This system of records contains investigatory material compiled for law enforcement purposes whose sources need not be reported.

Exemptions Claimed for the System:

Records in this system are exempt from sections (c)(3)-(4), (d)(1)-(4), (e)(1)-(3), (e)(4)(G)-(I), (e)(5), (e)(8), (f), and (g) of the Privacy Act, pursuant to 5 U.S.C. 552a(j)(2) and (k)(2). See 31 CFR 1.36.)

[FR Doc. 2014-04947 Filed 3-6-14; 8:45 am]

BILLING CODE 4830-01-P